DEPARTMENT OF HOMELAND SECURITY

Federal Emergency Management Agency

[Docket ID: FEMA-2010-0061]

Agency Information Collection Activities: Proposed Collection; Comment Request, OMB No. 1660-NEW; Logistics Capability Assessment Tool (LCAT)

AGENCY: Federal Emergency Management Agency, DHS.

ACTION: Notice; 60-day notice and request for comments; new information collection; OMB No. 1660-NEW; FEMA Form 008-0-1, LCAT Booklet.

SUMMARY: The Federal Emergency Management Agency, as part of its continuing effort to reduce paperwork and respondent burden, invites the general public and other Federal agencies to take this opportunity to comment on a proposed new information collection. In accordance with the Paperwork Reduction Act of 1995, this Notice seeks comments concerning the Logistics Capability Assessment Tool.

DATES: Comments must be submitted on or before December 27, 2010.

ADDRESSES: To avoid duplicate submissions to the docket, please use only one of the following means to submit comments:

(1) Online. Submit comments at http://www.regulations.gov under Docket ID FEMA-2010-0061. Follow the instructions for submitting comments.

(2) Mail. Submit written comments to Office of Chief Counsel, Legislation, Regulations and Policy Division, DHS/FEMA, 500 C Street, SW., Room 835, Washington, DC 20472-3100.

(3) Facsimile. Submit comments to (703) 483-2999.

(4) E-mail. Submit comments to FEMA-POLICY@dhs.gov. Include Docket ID FEMA-2010-0061 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Nicole Kelsey, Program Analyst, Logistics Management Directorate, Logistics Plans and Exercises Division, 202-212-7323 for additional information. You may contact the Records Management Division for copies of the proposed collection of information at facsimile number (202) 646-3347 or e-mail address: FEMA-Information-Collections-Management@dhs.gov.

SUPPLEMENTARY INFORMATION: The Logistics Capability Assessment Tool (LCAT) is tailored for use by States to evaluate their current disaster logistics readiness, identify areas for targeted improvement, and develop a roadmap to both mitigate weaknesses and further enhance strengths. The LCAT is authorized by sections 636 and 637 of the Post-Katrina Emergency Reform Act of 2006, Public Law 109-295.

Collection of Information

Title: Logistics Capability Assessment Tool (LCAT).

Type of Information Collection: New information collection.

OMB Number: 1660-NEW.

Form Titles and Numbers: FEMA Form 008-0-1, LCAT Booklet.

Abstract: The Logistics Capability Assessment Tool (LCAT) is a voluntary maturity model for States to self assess disaster logistics planning and response capabilities and identify areas of relative strength and weakness. The LCAT is facilitated through two-day collaborative sessions at States and is hosted by the State emergency management agency. FEMA provides State emergency management agencies with a detailed analysis report and roadmap for continuous improvement if the State decides to share the outcome.

Affected Public: State, local, or Tribal Government.

Estimated Total Annual Burden Hours: 123.3 hours.

Table A.12—Estimated Annualized Burden Hours and Costs
Type of respondent | Form name/form number | Number of respondents | Number of responses per respondent | Total Number of responses | Avg. burden per response (in hours) | Total annual burden (in hours) | Avg. hourly wage rate* | Total annual respondent cost
State, Local or Tribal Government | LCAT Briefing/No Form | 10 | 1 | 10 | 0.33 hour (20 minutes) | 3.3 | $33.59 | $111.00
State, Local or Tribal Government | State & local Self-Assessment and Instructions/FEMA Form 008-0-1 | 10 | 1 | 10 | 12 hours | 120 | 33.59 | 4,030.80
Total |  | 10 |  |  |  | 123.3 |  | 4,141.80

Estimated Cost: There are no operation and maintenance, or capital and start-up costs associated with this collection of information.

Comments:

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Lesia M. Banks,
Director, Records Management Division, Mission Support Bureau, Federal Emergency Management Agency, Department of Homeland Security.

[FR Doc. 2010-27182 Filed 10-26-10; 8:45 am]

BILLING CODE 9111-A9-P